FEDERAL COMMUNICATIONS COMMISSION

Waiver of Sunshine Period Prohibition for Agenda Item on Thursday, July 16, 2015 Open Meeting

July 10, 2015.

The Federal Communications Commission previously announced its intention to hold an Open Meeting on Thursday, July 16, 2015 at 10:30 a.m. With respect only to item 1 listed below, the Commission is now waiving the sunshine period prohibition contained in Section 1.1203 of the Commission's rules, 47 CFR 1.1203, until 7:00 p.m. on Wednesday, July 15, 2015. Thus, presentations with respect to item 1 will be permitted until that time.

Item No. | Bureau | Subject
1 | WIRELESS TELECOMMUNICATIONS | TITLE: Broadcast Incentive Auction Comment Public Notice Auction 1000, 1001 and 1002; Expanding the Economic and Innovation Opportunities of Spectrum Through Incentive Auctions; Policies Regarding Mobile Spectrum Holdings (AU Docket No. 14-252) (GN Docket No. 12-268) (WT Docket No. 12-269).
|  | SUMMARY: The Commission will take the next step to commencing the incentive auction in the first quarter of 2016 by considering the Procedures Public Notice, which adopts a balanced set of auction procedures that will ensure an effective, efficient, and timely auction. The Public Notice establishes and provides information on final procedures for setting the initial spectrum clearing target, qualifying to bid, and bidding in the reverse and forward auctions.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from Will Wiquist, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Gloria J. Miles,
Federal Register Liaison Officer.

[FR Doc. 2015-17579 Filed 7-16-15; 8:45 am]

BILLING CODE 6712-01-P